DEPARTMENT OF TRANSPORTATION

Federal Highway Administration

[Docket No. FHWA-2023-0011]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by July 3, 2023.

ADDRESSES: You may submit comments identified by DOT Docket ID Number 2023-0011 by any of the following methods:

Website: For access to the docket to read background documents or comments received go to the Federal eRulemaking Portal: Go to http://www.regulations.gov.

Follow the online instructions for submitting comments.

Fax: 1-202-493-2251.

Mail: Docket Management Facility, U.S. Department of Transportation, West Building, Ground Floor, Room W12-140, 1200 New Jersey Avenue SE, Washington, DC 20590-00012.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Dan Parker, Senior Program Analyst at danial.parker@dot.gov, Federal Highway Administration, Department of Transportation, 1200 New Jersey Ave. SE, Washington, DC, between 9 a.m. and 5 p.m., Monday through Friday, except Federal holidays.

SUPPLEMENTARY INFORMATION:

Title: Federal Share Flexibility Pilot Program.

Background: This is a request for Office of Management and Budget (OMB) emergency clearance for a new information collection request (ICR) to enable the Department of Transportation (DOT) Federal Highway Administration (FHWA) to implement the Federal Share Flexibility Pilot Program (FSFPP). The FSFPP was authorized in the Bipartisan Infrastructure Law (BIL), enacted as the Infrastructure Investment and Jobs Act (Act) (Pub. L. 117-58) on November 15, 2021. This historic Act is a once-in-a-generation opportunity to support transformational investments in our Nation's transportation infrastructure that will create good jobs, modernize our infrastructure, improve safety, tackle the climate crisis, and invest in communities that have too often been left behind. The Act includes the FSFPP to improve the safety, efficiency, and reliability of the movement of people and freight by replacing, rehabilitating, preserving, and protecting bridges in the National Bridge Inventory (NBI).

The FSFPP is critical to enabling State Department of Transportation (State DOT) agencies participating in the pilot added flexibility in the management and reimbursement of FHWA funded programs. The statutory requirements of the FSFPP are found under section 11107 of the BIL and codified at 23 U.S.C. 120(l). This new provision under Title 23 requires the establishment of a FSFPP not later than 180 days after the date of enactment of the BIL. Under the pilot, up to 10 State DOTs may be selected to participate. Selected State DOTs in the pilot are allowed to determine the Federal share on an individual project that is more than 0 percent and up to 100 percent as long as the average annual Federal share of all participating projects does not exceed the average of the maximum Federal share of those projects if those projects were not carried out under the pilot program.

Respondents: States, units of local government, and an Indian Tribe as defined in section 4 of the Indian Self-Determination and Education Assistance Act (25 U.S.C. 5304).

Expected Number of Respondents: 50.

Frequency: One-time application, to be followed by project agreement execution, reimbursement of funds, reporting, and project closeout.

Estimated Average Burden Hours per Response: 16.

Estimated Total Annual Burden Hours: 800.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; 23 U.S.C. 134 and 135; and 23 CFR chapter 1, subchapter E, part 450.

Dated: April 27, 2023.
Michael Howell,
FHWA Information Collection Officer.

[FR Doc. 2023-09313 Filed 5-2-23; 8:45 am]

BILLING CODE 4910-22-P